DEPARTMENT OF THE INTERIOR

Bureau of Land Management

[LLWY-957400-12-L14200000-BJ0000]

Filing of Plats of Survey, Wyoming

AGENCY: Bureau of Land Management, Interior.

ACTION: Notice.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These surveys were executed at the request of the Bureau of Land Management and the U. S. Forest Service, and are necessary for the management of resources. The lands surveyed are:

The plat representing the entire record of the survey of the subdivision of section 30, Township 32 North, Range 114 West, Sixth Principal Meridian, Wyoming, Group No. 847, was accepted February 27, 2012.

The plat and field notes representing the dependent resurvey of a portion of the Sixth Standard Parallel North through Ranges 95 and 96 West, a portion of the Twelfth Guide Meridian West through Township 24 North, between Ranges 96 and 97 West, the subdivisional lines, and the adjusted 1884 meanders of Bush Lake (dry) in sections 6 and 7, Township 24 North, Range 96 West, Sixth Principal Meridian, Wyoming, Group No. 826, was accepted February 27, 2012.

The plat and field notes representing the dependent resurvey of a portion of the east boundary, a portion of the north boundary, a portion of the subdivisional lines, Mineral Survey No. 519, and the subdivision of sections 1 and 2, Township 13 North, Range 79 West, Sixth Principal Meridian, Wyoming, Group No. 830, was accepted February 27, 2012.

The plat and field notes representing the dependent resurvey of portions of the east and north boundaries, a portion of the subdivisional lines, and the subdivision of section 1, Township 43 North, Range 82 West, Sixth Principal Meridian, Wyoming, Group No. 833, was accepted February 27, 2012.

The plat and field notes representing the dependent resurvey of a portion of the east boundary and portions of the subdivisional lines, Township 19 North, Range 107 West, Sixth Principal Meridian, Wyoming, Group No. 851, was accepted February 27, 2012.

The field notes representing the remonumentation of certain corners of the survey executed by A.V. Richards, south boundary of the Wyoming Territory in 1873, and Donnell Miller, subdivisions in 1899, Township 12 North, Range 83 West, Sixth Principal Meridian, Wyoming, Group No. 624, was accepted February 27, 2012.

The plat and field notes representing the dependent resurvey of a portion of the subdivisional lines, and the metes-and-bounds survey of the Adobe Town Wilderness Study Area Boundary through sections 7 and 18, Township 13 North, Range 97 West, Sixth Principal Meridian, Wyoming, Group No. 839, was accepted April 23, 2012.

The supplemental plat showing amended lottings, Township 33 North, Range 109 West, Sixth Principal Meridian, Wyoming, Group No. 858, was accepted June 1, 2012 and is based upon the dependent resurvey plat of Township 33 North, Range 109 West, accepted October 31, 2007.

Copies of the preceding described plats and field notes are available to the public at a cost of $1.10 per page.

Dated: June 7, 2012.
John P. Lee,
Chief Cadastral Surveyor, Division of Support Services.

[FR Doc. 2012-14384 Filed 6-12-12; 8:45 am]

BILLING CODE 4310-22-P